OFFICE OF THE UNITED STATES TRADE REPRESENTATIVE

Request for Public Comments on Interim Review of Eligibility of Cote d'Ivoire, Guinea, and Niger for Benefits Under the African Growth and Opportunity Act

AGENCY: Office of the United States Trade Representative.

ACTION: Notice and request for comments.

SUMMARY: The African Growth and Opportunity Act Implementation Subcommittee of the Trade Policy Staff Committee (the “Subcommittee”) is requesting written public comments for the interim review of the eligibility of Cote d'Ivoire, Guinea, and Niger to receive the benefits of the African Growth and Opportunity Act (AGOA). The Subcommittee will consider these comments in developing recommendations on AGOA country eligibility for the President. Comments received related to the child labor criteria may also be considered by the Secretary of Labor for the preparation of the Department of Labor's report on child labor as required under section 412(c) of the Trade and Development Act of 2000. This notice identifies the eligibility criteria that must be considered under the AGOA. Cote d'Ivoire, Guinea, and Niger are currently ineligible for AGOA benefits.

DATES: Public comments are due at the Office of the U.S. Trade Representative (USTR) by noon, Monday, August 29, 2010.

ADDRESSES: USTR strongly prefers electronic submissions made at http://www.regulations.gov, docket number USTR-2011-0009. See “Requirements for Submission,” below. If you are unable to make a submission at http://www.regulations.gov, please contact Laura Newport, Trade Policy Staff Committee, at (202) 395-3475 to make other arrangements.

FOR FURTHER INFORMATION CONTACT: For procedural questions, please contact Laura Newport, Office of the U.S. Trade Representative, 600 17th Street, NW., Room F516, Washington, DC 20508, at (202) 395-3475. All other questions should be directed to Constance Hamilton, Deputy Assistant, U.S. Trade Representative for Africa, Office of the U.S. Trade Representative, at (202) 395-9514.

SUPPLEMENTARY INFORMATION: The AGOA (Title I of the Trade and Development Act of 2000, Public Law 106-200) (19 U.S.C. 3721 et seq.), as amended, authorizes the President to designate sub-Saharan African countries as beneficiary sub-Saharan African countries eligible for duty-free treatment for certain additional products under the Generalized System of Preferences (GSP) (Title V of the Trade Act of 1974 (19 U.S.C. 2461 et seq.) (the “1974 Act”)), as well as for the preferential treatment the AGOA provides for certain textile and apparel articles.

The President may designate a country as a beneficiary sub-Saharan African country eligible for both the additional GSP benefits and the textile and apparel benefits of the AGOA for countries meeting certain statutory requirements intended to prevent unlawful transshipment of such articles, if he determines that the country meets the eligibility criteria set forth in: (1) Section 104 of the AGOA; and (2) section 502 of the 1974 Act. Currently, 37 countries are designated as beneficiary sub-Saharan African countries. Section 506A of the 1974 Act provides that the President shall monitor and review annually the progress of each sub-Saharan African country in meeting the foregoing eligibility criteria in order to determine whether each beneficiary sub-Saharan African country should continue to be eligible, and whether each sub-Saharan African country that is currently not a beneficiary sub-Saharan African country, should be designated as such a country. Section 506A of the 1974 Act requires that, if the President determines that a beneficiary sub-Saharan African country is not making continual progress in meeting the eligibility requirements, he must terminate the designation of the country as a beneficiary sub-Saharan African country.

The Subcommittee is seeking public comments in connection with an interim review of the eligibility of Cote d'Ivoire, Guinea, and Niger for the AGOA's benefits. The Subcommittee will consider any such comments in developing recommendations on country eligibility for the President. Comments related to the child labor criteria may also be considered by the Secretary of Labor in making the findings required under section 504 of the 1974 Act. The eligibility criteria can be found at: 19 U.S.C. 2462 (Section 502 of the 1974 Act) and 19 U.S.C. 3703 (Section 104 of AGOA).

Requirements for Submissions: Comments must be submitted in English. To ensure the most timely and expeditious receipt and consideration of petitions, USTR has arranged to accept on-line submissions via http://www.regulations.gov. To submit petitions via this site, enter docket number USTR-2011-0009 on the home page and click “search.” The site will provide a search-results page listing all documents associated with this docket. Find a reference to this notice by selecting “notice” under “Document Type” on search-results page and click on the link entitled “Submit a Comment.” (For further information on using the http://www.regulations,gov Web site, please consult the resources provided on the Web site by clicking on “Help” at the top of the home page.)

The http://www.regulations.gov Web site provides the option of making submissions by filling in a “Type comment & Upload file” field, or by attaching a document. USTR prefers comments to be submitted as attachments. When doing this, it is sufficient to type “See attached” in the “Type comment & Upload file” field. Submissions in Microsoft Word (.doc) or Adobe Acrobat (pdf) are preferred.

Persons wishing to file comments containing business confidential information must submit both a business confidential version and a public version. Persons submitting business confidential information should write “See attached BC comments” in the “Type comment & Upload file” field. Any page containing business confidential information must be clearly marked “Business Confidential” on the top of that page. Persons submitting a business confidential comment must also submit a separate public version of that comment with the business confidential information deleted. Persons should write “See attached public version” in the “Type comment & Upload file” field of the public submission. Submissions should not attach separate cover letters; rather, information that might appear in the cover letter should be included in the comments you submit. Similarly, to the extent possible, please include any exhibits, annexes, or other attachments to a submission in the same file as the submission itself and not as separate files.

Public versions of all documents relating to this review will be available for review no later than two weeks after the due date at http://www.regulations.gov, docket number USTR-2011-0009.

Donald W. Eiss,
Acting Chair, Trade Policy Staff Committee.

[FR Doc. 2011-20486 Filed 8-11-11; 8:45 am]

BILLING CODE 3190-W1-P